DEPARTMENT OF COMMERCE

National Oceanic and Atmospheric Administration

50 CFR Part 223

[Docket No. 980113011-0267-03; I.D. 061896A]

RIN 0648-AK34

Endangered and Threatened Species; Regulations Consolidation; Correction

AGENCY: National Marine Fisheries Service (NMFS), National Oceanic and Atmospheric Administration (NOAA), Commerce.

ACTION: Final rule; correction.

SUMMARY: This document contains corrections to the final rule pertaining to the consolidation and reorganization of existing regulations regarding implementation of the Endangered Species Act which was published in the Federal Register on March 23, 1999.

DATES: Effective October 11, 2000.

ADDRESSES: Donna Wieting, Chief, Marine Mammal Division, Office of Protected Resources, National Marine Fisheries Service, 1315 East-West Highway, Silver Spring, MD 20910.

FOR FURTHER INFORMATION CONTACT: Caroline Good, phone: (301) 713-2322.

SUPPLEMENTARY INFORMATION:

Background

In the final rule, titled Endangered and Threatened Species; Regulations Consolidation; Final Rule, published in the Federal Register on March 23, 1999,(64 FR 14052), three errors were made in identifying the eastern population of Steller sea lions.

NMFS is correcting these errors and is making no substantive change to the document in this action.

Need for Correction

As published, the final regulations contain errors which misidentify the stock parameters of the eastern population of the Steller sea lion (Eumetopias jubatus).

List of Subjects in 50 CFR Part 223

Endangered and threatened species, Exports, Imports, Marine mammals, Transportation.

Dated: October 4, 2000.
William T. Hogarth,
Acting Assistant Administrator for Fisheries, National Marine Fisheries Service.

Accordingly, 50 CFR part 223 is corrected by making the following correcting amendments:

PART 223—THREATENED MARINE AND ANADROMOUS SPECIES

1. The authority citation continues to read as follows:

Authority: 16 U.S.C. 1531 et seq.; 16 U.S.C. 742a et seq.; 31 U.S.C. 9701.

2. Revise paragraph (c) of § 223.102 to read as follows:

§ 223.102 Enumeration of threatened marine and anadromous species.

* * * * *

(c) Marine mammals. Guadalupe fur seal (Arctocephalus townsendi); Steller sea lion (Eumetopias jubatus), eastern population, which consists of all Steller sea lions from breeding colonies located east of 144° W. longitude.

* * * * *

[FR Doc. 00-26082 Filed 10-10-00; 8:45 am]

BILLING CODE 3510-22-S